DEPARTMENT OF TRANSPORTATION

Federal Railroad Administration

Petitions for Waivers of Compliance

In accordance with part 211 of title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Norfolk Southern Corporation

(Docket Number FRA-2002-13096)

The Norfolk Southern Corporation (NS), on behalf of itself and its subsidiaries and affiliates, seeks a permanent waiver of compliance from the requirements of Railroad Workplace Safety Standards, 49 CFR part 214. The NS intends this waiver to cover all “railroad bridge workers” or “bridge workers” (as those terms are defined by 49 CFR 214.7) employed by NS or its contractors, including track inspectors and signal maintainers who perform their duties on bridges. The waiver would apply to all installations and locations, and related equipment where the NS is responsible for the construction, inspection, testing, or maintenance of a bridge.

Bridge workers employed by or contracting with the NS are required by § 214.107 to wear life vests or buoyant work vests and to have available ring buoys and lifesaving skiffs when working “over or adjacent to water with a depth of four feet or more, or where the danger of drowning exists.” These requirements apply even where bridge workers are otherwise exempt from wearing fall protection, such as where satisfactory walkways and railings (§ 214.103(c)(1)) exist on the bridge, where workers remain at least six feet from the edge of a roadway deck or any opening (§ 214.103(c)(2)), or where workers perform a repair or inspection of a minor nature that is completed by working exclusively within the gauge of the rail (§ 214.103(d)). There appear to be no exceptions to the requirements for ring buoys and lifesaving skiffs where a bridge worker is working alone on or near a bridge. Accordingly, the NS requests a waiver of § 214.107 in those situations where (1) bridge workers are not at risk of falling from a bridge, or (2) the risk of falling is so minimal that fall protection is not required. Specifically, the NS requests a waiver of drowning protection requirements under the same conditions where the exceptions to the fall protection requirements set forth in §§ 214.103(c) and (d) apply.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2002-13096) and must be submitted to the Docket Clerk, DOT Central Docket Management Facility, Room PL-401, 400-7th Street, SW., Washington, DC 20590-0001. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Issued in Washington, DC on November 25, 2002.
Grady C. Cothen, Jr.,
Deputy Associate Administrator for Safety Standards and Program Development.

[FR Doc. 02-30439 Filed 11-29-02; 8:45 am]

BILLING CODE 4910-06-P